DEPARTMENT OF ENERGY

Federal Energy Regulatory Commission

Notice of Intent To File License Application, Filing of Pre-Application Document, and Approving Use of the Traditional Licensing Process

August 10, 2010.

a. Type of Filing: Notice of Intent to File License Application and Request to Use the Traditional Licensing Process.

b. Project No.: 13318-000.

c. Date Filed: June 9, 2010.

d. Submitted by: Swan Lake North Hydro, LLC.

e. Name of Project: Swan Lake North Hydroelectric Project.

f. Location: Approximately 11 miles northeast of Klamath Falls in Klamath County, Oregon. The project would be a closed-loop pumped storage project utilizing ground water, and would not be built on any existing body of water. The project would occupy United States lands administered by the U.S. Bureau of Land Management.

g. Filed Pursuant to: 18 CFR 5.3 of the Commission's regulations.

h. Potential Applicant Contact: Mr. Brent Smith; Symbiotics LLC; P.O. Box 535; Rigby, Idaho 83442; (208) 745-0834; or e-mail at brent.smith@symbioticsenergy.com.

i. FERC Contact: Dianne Rodman at (202) 502-6077; or e-mail at dianne.rodman@ferc.gov.

j. Swan Lake North Hydro filed its request to use the Traditional Licensing Process on June 9, 2010. Swan Lake North Hydro provided public notice of its request on June 25 through July 29, 2010. In a letter dated August 6, 2010, the Director of the Division of Hydropower Licensing approved Swan Lake North Hydro's request to use the Traditional Licensing Process.

k. With this notice, we are initiating informal consultation with: (a) The U.S. Fish and Wildlife Service under section 7 of the Endangered Species Act and the joint agency regulations thereunder at 50 CFR, Part 402; and (b) the Oregon State Historic Preservation Officer, as required by section 106, National Historical Preservation Act, and the implementing regulations of the Advisory Council on Historic Preservation at 36 CFR 800.2.

l. Swan Lake North Hydro filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field, to access the document. For assistance, contact FERC Online Support at FERCONlineSupport@ferc.gov or toll free at 1-866-208-3676, or for TTY, (202) 502-8659. A copy is also available for inspection and reproduction at the address in paragraph h.

n. Register online at http://www.ferc.gov/docs-filing/esubscription.asp to be notified via e-mail of new filings and issuances related to this or other pending projects. For assistance, contact FERC Online Support.

Kimberly D. Bose,
Secretary.

[FR Doc. 2010-20203 Filed 8-16-10; 8:45 am]

BILLING CODE 6717-01-P